DEPARTMENT OF COMMERCE

National Oceanic and Atmospheric Administration

RIN 0648-BA75

Atlantic Highly Migratory Species; Electronic Dealer Reporting System Workshop

AGENCY: National Marine Fisheries Service (NMFS), National Oceanic and Atmospheric Administration (NOAA), Commerce.

ACTION: Notice of public workshops.

SUMMARY: On August 8, 2012, NMFS published a final rule that will require, among other things, Federal Atlantic swordfish, shark, and tunas dealers (except for dealers reporting Atlantic bluefin tuna) to report receipt of Atlantic sharks, swordfish, and bigeye, albacore, yellowfin, and skipjack (BAYS) tunas through one centralized electronic reporting system starting on January 1, 2013. This electronic reporting system will allow dealers to submit Atlantic sharks, swordfish, and BAYS tuna data on a more real-time basis and more efficiently, and will reduce duplicative data submissions from different regions. This notice announces the dates and locations of several training workshops to introduce the new reporting system to HMS dealers. These workshops will be held in the Gulf of Mexico and Atlantic regions and are open to any interested parties.

DATES: Training workshops for the new electronic dealer system will be held from October through December 2012. See SUPPLEMENTARY INFORMATION for meeting dates, times, and locations.

ADDRESSES: Workshops will be held in Barnegat Light, NJ; Ocean Pines, MD; Gulf Shores and Coden, AL; Charleston, SC; Portland, ME; Gloucester, MA; Manteo, NC, and Dickinson, TX. See SUPPLEMENTARY INFORMATION for dates, times, and locations.

FOR FURTHER INFORMATION CONTACT: Delisse Ortiz or Karyl Brewster-Geisz at (301) 427-8503 (phone); or Jackie Wilson at (240) 338-3936, or (301) 713-1917 (fax); or http://www.nmfs.noaa.gov/sfa/hms/index.htm.

SUPPLEMENTARY INFORMATION: Atlantic HMS are managed under the dual authority of the Magnuson-Stevens Fishery Conservation and Management Act (MSA), 16 U.S.C. 1801 et seq., and the Atlantic Tunas Convention Act (ATCA), 16 U.S.C. 971 et seq. Under the MSA, NMFS must ensure consistency with the National Standards and manage fisheries to maintain optimum yield, rebuild overfished fisheries, and prevent overfishing. ATCA authorizes the Secretary of Commerce to promulgate regulations, as may be necessary and appropriate, to implement the recommendations adopted by the International Commission for the Conservation of Atlantic Tunas (ICCAT). The authority to issue regulations under MSA and ATCA has been delegated from the Secretary to the Assistant Administrator for Fisheries, NOAA. The implementing regulations for Atlantic HMS are at 50 CFR part 635.

Background

On August 8, 2012 (77 FR 47303), we published a final rule in the Federal Register that requires, among other things, Federal Atlantic swordfish, shark, and tunas dealers (except for dealers reporting Atlantic bluefin tuna) to report receipt of Atlantic sharks, swordfish, and BAYS tunas through one centralized electronic reporting system. Under this new system, dealers will submit HMS data electronically (instead of in a paper format) and include additional information that is necessary for management purposes (e.g., vessel and logbook information). The electronic submission of data will eliminate the delay associated with mailing in hardcopy reports. In this manner, HMS landings data will be submitted on a more real-time basis, allowing for timely and efficient data collection for management of Atlantic HMS.

In order to give sufficient time for dealers to adjust to implementation of the new system and the additional requirements, we delayed implementation of the new HMS electronic reporting system for all federally-permitted HMS dealers until January 1, 2013. Additionally, we are conducting outreach to HMS dealers to train them how to use the new system and help ease the transition from the current paper format to the new HMS electronic reporting system. To date, we conducted 11 training workshops in the Caribbean, Gulf of Mexico and Atlantic regions in order to introduce the new reporting system to HMS dealers. In this notice, we announce the date and location for one webinar and nine additional training workshops in the Gulf of Mexico and Atlantic regions in order to continue introducing HMS dealers to the new electronic system. We may announce additional workshops at a future date.

Tentative date | Time | Meeting locations | Address
October 17, 2012 | 6:00-9:00 pm | US Coast Guard Station Barnegat Light | Sixth and Bayview Avenue, Barnegat Light, NJ 08006.
October 18, 2012 | 2:00-5:00 pm | Ocean Pines Library Conference Room | 111707 Cathell Road, Ocean Pines, MD 21811.
October 23, 2012 | 3:00-6:00 pm | Alabama Department of Conservation and Natural Resources Division/Marine Resources Claude Peteet Mariculture Center | 21055 Waterway E Blvd, Gulf Shores, AL 36542.
October 24, 2012 | 3:00-6:00 pm | Coastal Response Center | 7385 Highway 188, Coden, AL 36523.
November 1, 2012 | 5:00-8:00 pm | SC Dept of Natural Resources Marine Resources Research Institute Auditorium | 217 Fort Johnson Rd., Charleston, SC 29412.
November 8, 2012 | 5:00-8:00 pm | Casco Bay Ferry Terminal (Casco Bay Lines) | 56 Commercial Street, Portland, ME 04112.
November 14, 2012 | 2:00-5:00 pm | NOAA Northeast Regional Office | 55 Great Republic Drive, Gloucester, MA 01930.
November 27, 2012 | 1:00-4:00 pm | Webinar | https://www1.gotomeeting.com/register/941053440.
December 5, 2012 | 4:00-7:00 pm | Dare County Administration Building, Room 168 | 954 Marshall C. Collins Drive, Manteo, NC 27954.
December 13, 2012 | 5:00-8:00 pm | Texas Parks and Wildlife Department | 1502 FM 517 East, Dickinson, TX 77539.

These workshops will be physically accessible to people with disabilities. Requests for sign language interpretation or other auxiliary aids should be directed to Delisse Ortiz at (301) 425-8503 or Jackie Wilson at (240) 338-3936 at least 7 days prior to the workshop date. The public is reminded that NMFS expects participants at the workshop to conduct themselves appropriately. At the beginning of each workshop, a representative of NMFS will explain the ground rules (e.g., alcohol is prohibited from the hearing room; each attendee will have an opportunity to ask questions; and attendees should not interrupt one another). Attendees are expected to respect the ground rules; if they do not, they will be asked to leave the workshop.

Dated: September 27, 2012.
Lindsay Fullenkamp,
Acting Deputy Director, Office of Sustainable Fisheries, National Marine Fisheries Service.

[FR Doc. 2012-24205 Filed 10-1-12; 8:45 am]

BILLING CODE 3510-22-P